DEPARTMENT OF THE INTERIOR

National Park Service Golden Gate National Recreation Area and Point Reyes National Seashore Advisory Commission; Notice of Meeting Cancellation

Notice is hereby given in accordance with the Federal Advisory Committee Act that the meeting of the Golden Gate National Recreation Area and Point Reyes National Seashore Advisory Commission previously scheduled for Saturday, January 27, 2001 in Point Reyes, California will be cancelled.

The Advisory Commission was established by Public Law 92-589 to provide for the free exchange of ideas between the National Park Service and the public and to facilitate the solicitation of advice or other counsel from members of the public on problems pertinent to the National Park Service systems in Marin, San Francisco and San Mateo Counties. Members of the Commission are as follows: Mr. Richard Bartke, Chairman; Ms. Amy Meyer, Vice Chair; Ms. Susan Giacomini Allan, Mr. Douglas Siden, Mr. Michael Alexander, Mr. Dennis J. Rodoni, Ms. Lennie Roberts, Ms. Yvonne Lee, Mr. Fred Rodriguez, Mr. Trent Orr, Mr. Redmond Kernan, Ms. Betsey Cutler, Mr. Gordon Bennett, Ms. Anna-Marie Booth, Mr. John J. Spring, Dr. Edgar Wayburn, Mr. Doug Nadeau.

Dated: December 28, 2000.
Mary G. Scott,
Acting General Superintendent, Golden Gate National Recreation Area.

[FR Doc. 01-620 Filed 1-9-01; 8:45 am]

BILLING CODE 4310-70-P